DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, 44 U.S.C. 3506(c)(2)(A). Currently, the Community Development Financial Institutions (CDFI) Fund, Department of the Treasury, is soliciting comments concerning the CDFI Fund's conflict of interest reporting requirements for contract readers of applications submitted for funding or tax credit allocation authority under the CDFI Fund's award programs.

DATES: Written comments must be received on or before June 28, 2010 to be assured of consideration.

ADDRESSES: Direct all comments to Jeffrey C. Berg, Legal Counsel, at the Community Development Financial Institutions Fund, U.S. Department of the Treasury, 601 13th Street, NW., Suite 200 South, Washington, DC 20005, by e-mail to conflictofinterestcomments@cdfi.treas.gov or by facsimile to (202) 622-8244.

FOR FURTHER INFORMATION CONTACT:

The CDFI Fund's Conflict of Interest Package for CDFI Fund Application Reviewers may be obtained from the CDFI Fund's Web site at http://www.cdfifund.gov. Requests for additional information should be directed to Ashanti McCallum, Paralegal Specialist, Community Development Financial Institutions Fund, U.S. Department of the Treasury, 601 13th Street, NW., Suite 200 South, Washington, DC 20005, or call (202) 622-9018. Please note this is not a toll free number.

SUPPLEMENTARY INFORMATION:

Title: Conflict of Interest Package for CDFI Fund Application Reviewers.

Abstract: Through its programs, the CDFI Fund supports financial institutions around the country that are specifically dedicated to financing and supporting community and economic development activities. This strategy builds strong institutions that make loans and investments and provide financial services in markets (including economically distressed investment areas and targeted populations) whose needs for loans, investments, and financial services have not been fully met by traditional financial institutions, particularly in the areas of promoting homeownership, developing of affordable housing, and stimulating small business development, as well as providing financial services to those who have not previously accessed financial institutions.

Consistent with the Federal Acquisition Regulations provisions on conflicts of interest, the CDFI Fund has applied, and will continue to apply, a conflict of interest policy with respect to its application reviewers. This policy will prohibit reviewers from participating in the evaluation or process of selection of applications where such participation creates a conflict of interest or an appearance of a conflict of interest. The conflict of interest policy and review materials are used by the CDFI Fund to determine whether a conflict of interest or an appearance of a conflict of interest will prevent a reviewer from being assigned particular applications during the evaluation process for the CDFI Fund awards. The policy and review materials are applicable to all reviewers, including CDFI Fund staff and other federal government employees, as well as those reviewers engaged through contract with the CDFI Fund. The completion of the package is mandatory for all reviewers.

Current Action: Reinstatement.

Type of review: Regular review.

Affected Public: Individuals.

Estimated Number of Respondents: 400.

Estimated Annual Time per Respondent: 15 minutes (0.25 hours).

Estimated Total Annual Burden Hours: 100 hours.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 12 U.S.C. 4703(c); 48 CFR subpart 9.5.

Dated: April 21, 2010.
Scott Berman,
Acting, Chief Operating Officer.

[FR Doc. 2010-9658 Filed 4-26-10; 8:45 am]

BILLING CODE 4810-70-P